DEPARTMENT OF THE INTERIOR

Office of the Secretary

Working Groups of the Invasive Species Advisory Committee

AGENCY: Office of the Secretary, DOI.

ACTION: Establishment.

SUMMARY: This notice is published in accordance with the provisions of the Federal Advisory Committee Act (Pub. L. 92-463). Pursuant to Executive Order 13112, the National Invasive Species Council (Council) on behalf of the Invasive Species Advisory Committee (ISAC) is establishing working groups to assist preparation of a National Invasive Species Management Plan (Management Plan) and ongoing stakeholder input to assist ISAC and Council activities.

SUPPLEMENTARY INFORMATION:

Working Groups—Scope and Objectives

The purpose of the working groups is to provide the ISAC and the Council advice on a broad array of issues related to preventing the introduction of invasive species and providing for their control and minimizing the economic, ecological, and human health impacts that invasive species cause. Six working groups have been established as follows:

1. Communication, Outreach, and Education

2. International Activities and Cooperation

3. Policy and Regulation

4. Research, Information Sharing, Documentation and Monitoring

5. Risk Analysis and Prevention

6. Management (Control and Restoration)

The working groups will help maintain a regular dialogue with stakeholders to provide national leadership regarding invasive species issues. They will assist the ISAC and the Council to (1) Prepare and issue a Management Plan; (2) encourage planning and action at local, tribal, State, regional and ecosystem-based levels to achieve the goals and objectives of the management plan; (3) develop recommendations for international cooperation in addressing invasive species; (4) develop, in consultation with the Council on Environmental Quality, guidance to Federal agencies pursuant to the National Environmental Policy Act on invasive species matters; (5) facilitate development of a coordinated network to document, evaluate, and monitor impacts from invasive species; (6) facilitate establishment of an information-sharing system on invasive species that utilizes, to the greatest extent practicable, the Internet; and (7) support long-term continuance and effective implementation of the Management Plan.

Working groups have been organized with federal and non-federal co-leaders. The groups will utilize electronic communications (email, listservers, and web-based postings) to accelerate development of Management Plan input. The vision or scoping statements developed by each working group will reflect a more specific refinement of the draft guiding principles now under development by the ISAC. Priority issues will be identified and the groups will develop draft responses or actions to be taken for consideration by the ISAC. As part of the management planning process, model projects will be identified which improve coordination and effectiveness and stimulate action.

The working groups will report to the ISAC at least twice before the Management Plan is due to be completed in August, 2000. After issuance of the plan, the working groups will help implement the plan and begin developing input for its biennial revision.

Members of the working groups serve without pay.

FOR FURTHER INFORMATION CONTACT: Kelsey Passé, National Invasive Species Council Program Analyst, Department of the Interior; Email: kelsey_passe@ios.doi.gov; Phone: (202) 208-6336; Fax: (202) 208-1526.

Dated: April 26, 2000.
William Y. Brown,
Science Advisor to the Secretary.

[FR Doc. 00-10868 Filed 5-1-00; 8:45 am]

BILLING CODE 4310-RK-P